DEPARTMENT OF STATE

[Public Notice 5426]

Announcement of Meetings of the International Telecommunication Advisory Committee

SUMMARY: This notice announces a series of International Telecommunication Advisory Committee (ITAC) meetings.

The International Telecommunication Advisory Committee (ITAC) will meet to prepare advice on the U.S. position on ITU budget shortfalls on Friday September 8, 2006 9:30-noon at a location in the Washington, DC Metro Area.

This meeting is open to the public. Particulars on location and conference bridge is available from the secretariat minardje@state.gov, telephone 202-647-3234.

Dated: August 8, 2006.
Cecily Holiday,
Director, Radiocommunication Standardization International Communications & Information Policy, Department of State.

[FR Doc. E6-13458 Filed 8-15-06; 8:45 am]

BILLING CODE 4710-07-P